NUCLEAR REGULATORY COMMISSION

Draft Regulatory Guide: Issuance, Availability

AGENCY: Nuclear Regulatory Commission.

ACTION: Notice of Issuance and Availability of Draft Regulatory Guide (DG)-1205.

FOR FURTHER INFORMATION CONTACT: Khoi Nguyen, U.S. Nuclear Regulatory Commission, Washington, DC 20555-0001, telephone: (301) 415-0701 or e-mail to Khoi.Nguyen@nrc.gov.

SUPPLEMENTARY INFORMATION:

I. Introduction

The U.S. Nuclear Regulatory Commission (NRC) has issued for public comment a draft guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide (DG), entitled, “Bypassed and Inoperable Status Indication for Nuclear Power Plant Safety Systems,” is temporarily identified by its task number, DG-1205, which should be mentioned in all related correspondence. DG-1205 is proposed Revision 1 of Regulatory Guide 1.47.

DG-1205 describes a method that the staff of the NRC considers acceptable for use in complying with the NRC's regulations with respect to bypassed and inoperable status indication for nuclear power plant safety systems. The regulatory framework that the NRC has established for nuclear power plants consists of a number of regulations and supporting guidelines applicable to bypassed and inoperable status indication, including, but not limited to, General Design Criterion (GDC) 1, “Quality Standards and Records,” GDC 13, “Instrumentation and Control,” GDC 19, “Control Room,” GDC 21, “Protection System Reliability and Testability,” GDC 22, “Protection System Independence,” and GDC 24, “Separation of Protection and Control Systems,” as set forth in Appendix A, “General Design Criteria for Nuclear Power Plants,” to Title 10, Part 50, “Domestic Licensing of Production and Utilization Facilities,” of the Code of Federal Regulations (10 CFR part 50). GDC 1 requires that structures, systems, and components important to safety be designed and installed to quality standards commensurate with the importance-to-safety of the functions to be performed. GDC 13 requires that appropriate controls be provided to maintain variables and systems that can affect the fission process, the integrity of the reactor core, the reactor coolant pressure boundary, and the containment and its associated systems within prescribed operating ranges. GDC 19 requires that a control room be provided from which actions can be taken to operate the nuclear power unit safely under normal operating conditions. GDC 21 requires that the protection system be designed for high functional reliability and inservice testability. GDC 22 requires that the protection system be designed to ensure that the effects of normal operating, maintenance, and testing on redundant channels do not result in the loss of the protection function. GDC 24 requires that interconnection of the protection and control systems be limited to ensure that safety is not significantly impaired.

II. Further Information

The NRC staff is soliciting comments on DG-1205. Comments may be accompanied by relevant information or supporting data and should mention DG-1205 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1205 may be directed to the NRC contact, Khoi Nguyen at (301) 415-0701 or e-mail to Khoi.Nguyen@nrc.gov.

Comments would be most helpful if received by December 22, 2008. Comments received after that date will be considered if it is practical to do so, but the NRC is able to ensure consideration only for comments received on or before this date. Although a time limit is given, comments and suggestions in connection with items for inclusion in guides currently being developed or improvements in all published guides are encouraged at any time.

Electronic copies of DG-1205 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML082140114.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 17 day of October 2008.
For the Nuclear Regulatory Commission.
Andrea D. Valentin,
Chief, Regulatory Guide Development Branch, Division of Engineering, Office of Nuclear Regulatory Research.

[FR Doc. E8-25292 Filed 10-22-08; 8:45 am]

BILLING CODE 7590-01-P